FEDERAL COMMUNICATIONS COMMISSION

Deletion of Agenda Item From August 1, 2008, Open Meeting

August 1, 2008.

The following has been deleted from the list of Agenda items scheduled for consideration at the August 1, 2008, Open Meeting and previously listed in the Commission's Notice of July 25, 2008, 73 FR 44745, July 31, 2008. This item has been adopted by the Commission.

Item No. | Bureau | Subject
3 | Wireless Tele-Communications | Title: Applications of Cellco Partnership d/b/a Verizon Wireless and Rural Cellular Corporation for Consent to Transfer Control of Licenses, Authorizations, and Spectrum Manager Leases and Petitions for Declaratory Ruling (WT Docket No. 07-208).
|  | Summary: The Commission will consider a Memorandum Opinion and Order and Declaratory Ruling regarding the applications of Cellco Partnership d/b/a Verizon Wireless and Rural Cellular Corporation (“RCC”) for consent to the transfer of control of licenses, authorizations, and spectrum manager leasing arrangements held by RCC and its subsidiaries from RCC to Verizon Wireless and the petitions for declaratory ruling filed pursuant to Section 310(b)(4) requesting that the Commission find that it is in the public interest to extend to RCC and its subsidiaries the foreign ownership ruling previously issued to Verizon Wireless for foreign ownership in excess of 25 percent.

Federal Communications Commission.
Marlene H. Dortch,
Secretary.

[FR Doc. E8-18124 Filed 8-6-08; 8:45 am]

BILLING CODE 6712-01-P